DEPARTMENT OF THE INTERIOR

Bureau of Land Management

[CA-310-0777-XG]

Notice of Public Meeting: Northwest California Resource Advisory Council and Northeast California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northwest California Resource Advisory Council and Northeast California Resource Advisory Council will meet in joint session, and then convene in individual business breakout sessions.

DATES: The meeting will be held Wednesday and Thursday, May 11-12, 2005, in the Conference Center of the Red Lion Hotel, 1830 Hilltop Dr., Redding, Calif. On May 11, the councils will convene in joint session at 10 a.m. On May 12, the groups will convene individual business sessions beginning at 8 a.m. Time for public comment has been set aside for 1 p.m. both days.

FOR FURTHER INFORMATION CONTACT: Rich Burns, Manager, BLM Ukiah Field Office, (707) 468-4000; Tim Burke, Manager, Alturas Field Office, (530) 233-4666; or BLM Public Affairs Officer Joseph J. Fontana, (530) 252-5332.

SUPPLEMENTARY INFORMATION: The Resource Advisory Councils advise the Secretary of the Interior, through the BLM, on a variety of planning and management issues associated with public land management in Northern California and parts of Northwest Nevada. At the joint session, agenda topics will include use of recreation user fees, orientation matters, a review of council charters and a forum with BLM California State Director Mike Pool. At its business meeting May 12, the Northwest Council will discuss BLM wilderness management, status of the Salmon Creek Resources proposed land exchange, the process for establishment of a National Conservation Area in the Sacramento River Bend area, designations under the BLM's National Landscape Conservation System, and a status report on the Ukiah Field Office Resource Management Plan. Also on May 12, the Northeast RAC will discuss land acquisitions, WSA in-holdings, rail banking, status of the sagebrush steppe ecosystem management project and the status of Resource Management Plan development for the Alturas, Eagle Lake and Surprise field offices. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: March 23, 2005.
Joseph J. Fontana,
Public Affairs Officer.

[FR Doc. 05-6324 Filed 3-30-05; 8:45 am]

BILLING CODE 4310-40-P